ENVIRONMENTAL PROTECTION AGENCY

40 CFR Part 63

National Emission Standards for Hazardous Air Pollutants for Source Categories

CFR Correction

In Title 40 of the Code of Federal Regulations, Part 63 (§ 63.8980 to end of part 63), revised as of July 1, 2014, on page 244, in § 63.10686, paragraph (e) is reinstated to read as follows:

§ 63.10686 What are the requirements for electric arc furnaces and argon-oxygen decarburization vessels?

* * * * *

(e) You must monitor the capture system and PM control device required by this subpart, maintain records, and submit reports according to the compliance assurance monitoring requirements in 40 CFR part 64. The exemption in 40 CFR 64.2(b)(1)(i) for emissions limitations or standards proposed after November 15, 1990 under section 111 or 112 of the CAA does not apply. In lieu of the deadlines for submittal in 40 CFR 64.5, you must submit the monitoring information required by 40 CFR 64.4 to the applicable permitting authority for approval by no later than the compliance date for your affected source for this subpart and operate according to the approved plan by no later than 180 days after the date of approval by the permitting authority.

[FR Doc. 2015-15481 Filed 6-23-15; 8:45 am]

BILLING CODE 1505-01-D